DEPARTMENT OF THE INTERIOR

Bureau of Land Management

[LLORM00000-L12200000.DF0000-223. HAG22-0009]

Postponement of Public Meeting of the Western Oregon Resource Advisory Council

AGENCY: Bureau of Land Management, Interior.

ACTION: Notice of public meetings.

SUMMARY: In accordance with the Federal Land Policy and Management Act and the Federal Advisory Committee Act of 1972, the U.S. Department of the Interior, Bureau of Land Management (BLM) announces the postponement of the Western Oregon Resource Advisory Council's (RAC) January 2022 meeting field tour.

DATES: The Western Oregon RAC's January 10 to 11 meeting is postponed to March 30 to 31, 2022, and the field tour is postponed to April 1, 2022. Each meeting will begin at 9 a.m. and adjourn at approximately 3 p.m. The field tour will commence at 9 a.m. and conclude around 4 p.m. The field tour and meetings are open to the public.

ADDRESSES: The meetings will be held virtually over the Zoom platform. Those wishing to participate in the Zoom meetings must register at least 2 weeks in advance of the meetings. The link to register for the March RAC Zoom meetings is: https://blm.zoomgov.com/webinar/register/WN_pLpbh88OQmq55ry73zC-CA.

The RAC will take a field tour of the Edson Campground and Sixes River Campground on Friday, April 1. The RAC will meet at 9 a.m. at the BLM Coos Bay District Office, 1300 Airport Lane, North Bend, Oregon, and arrive at the Edson Campground at 10:45 a.m., returning to the BLM Coos Bay District Office at around 4 p.m.

FOR FURTHER INFORMATION CONTACT: Kyle Sullivan, Public Affairs Specialist, Medford District, 3040 Biddle Road, Medford, OR 97504; phone: (541) 618-2340; email: ksullivan@blm.gov. Persons who use a telecommunications device for the deaf (TDD) may call the Federal Relay Service (FRS) at (800) 877-8339 to contact Mr. Sullivan during normal business hours. The FRS is available 24 hours a day, 7 days a week, to leave a message or question. You will receive a reply during normal business hours.

SUPPLEMENTARY INFORMATION: The 15-member Western Oregon RAC advises the Secretary of the Interior, through the BLM, on a variety of public-land issues across public lands in Western Oregon, including the Coos Bay, Medford, Northwest Oregon, and Roseburg Districts and part of the Lakeview District. At the March meeting, the RAC will review the Secure Rural School Title II funding and recreation fee proposal process and focus on review of Secure Rural School Title II funding projects. Title II funds support restoration projects that may not otherwise have been completed, such as the improved maintenance of existing infrastructure, enhancement of forest ecosystems, and restoration of land health and water quality. In turn, these projects create additional employment opportunities in western Oregon communities and foster collaborative relationships between those who use public lands and those who manage them.

On April 1, the RAC will visit the Edson Campground and Sixes River Campground to prepare for review of potential recreation fee proposals.

The public is welcome to attend the field tour and must provide their own transportation and meals. Individuals who plan to attend must RSVP to the BLM Medford District Office at least 2 weeks in advance of the field tour (see FOR FURTHER INFORMATION CONTACT). Please indicate whether you need special assistance, such as sign language interpretation and other reasonable accommodations. The field tour will follow current Centers for Disease Control and Prevention COVID-19 guidance regarding social distancing and mask wearing.

The meetings are open to the public, and public comment periods will be held on March 30 and 31, 2022, at 2:30 p.m. each day. Depending on the number of persons wishing to comment and the time available, time allotted for individual oral comments may be limited. The public may submit written comments to the RAC by emailing the RAC coordinator at ksullivan@blm.gov.

Before including your address, phone number, email address, or other personal identifying information in your comment, you should be aware that your entire comment—including your personal identifying information—may be made publicly available at any time. While you can ask us in your comment to withhold your personal identifying information from public review, we cannot guarantee that we will be able to do so.

Previous minutes, membership information, and upcoming agendas are available at: https://www.blm.gov/get-involved/resource-advisory-council/near-you/oregon-washington. Detailed minutes for the RAC meetings are also maintained in the Medford District Office and will be available for public inspection and reproduction during regular business hours within 90 days following the meeting.

(Authority: 43 CFR 1784.4-2)

Elizabeth R. Burghard,
Medford District Manager, (Designated Federal Officer).

[FR Doc. 2022-01008 Filed 1-19-22; 8:45 am]

BILLING CODE 4310-JB-P